DEPARTMENT OF DEFENSE

Office of the Secretary

Renewal of Department of Defense Federal Advisory Committees

AGENCY: Department of Defense.

ACTION: Renewal of Federal Advisory Committee.

SUMMARY: Under the provisions of Section 905 of Title IX, the Federal Advisory Committee Act of 1972 (5 U.S.C. Appendix), the Government in the Sunshine Act of 1976 (5 U.S.C. 552b), and 41 CFR 102-3.50, the Department of Defense gives notice that it is renewing the charter for the Missouri River (South Dakota) Task Force (hereafter referred to as the Task Force).

The Task Force is a non-discretionary federal advisory committee established to provide independent advice and recommendations to the Secretary of the Army on plans and projects to reduce siltation of the Missouri River in the State of South Dakota and to meet the objectives of the Pick-Sloan Program. Specifically, the Task Force's duties, set out in Public Law 106-541, Section 905, paragraphs (c)-(e) and include the following tasks:

a. Prepare and approve, by a majority of the members, a plan for the use of the funds made available under Public Law 106-541, to promote conservation practices in the Missouri River watershed, control and remove the sediment from the Missouri River, protect recreation on the Missouri River from sedimentation, and protect Indian and non-Indian historical and cultural sites along the Missouri River from erosion;

b. Develop and recommend to the Secretary of the Army for implementation, critical restoration projects meeting the goals of the plan; and

c. Determine if these projects primarily benefit the Federal Government.

The Secretary of the Army may act upon the Task Force's advice and recommendations.

As prescribed by Public Law 106-541, the Task Force shall be composed of not more than twenty nine members. Specifically, the Task Force membership shall be composed of:

a. Secretary of the Army or designee, who shall serve as the Chairperson;

b. Secretary of Agriculture or designee;

c. Secretary of Energy or designee;

d. Secretary of the Interior or designee; and

e. The Trust. The Trust is composed of twenty five members to be appointed by the Secretary of the Army, including;

i. Fifteen members recommended by the Governor of South Dakota that represent equally the various interests of the public. Included in those fifteen individuals recommended by the Governor of South Dakota, there shall be recommendations of representatives of the South Dakota Department of Environment and Natural Resources; the South Dakota Department of Game, Fish, and Parks; environmental groups; the hydroelectric power industry, local governments; recreation user groups; agricultural groups; and other appropriate interests.

ii. The Trust also shall include one member recommended by each of the nine Indian Tribes in the State of South Dakota, and one member recommended by the organization known as the “Three Affiliated Tribes of North Dakota.”

The individuals described in (e) above, shall be appointed by the Secretary of the Army as representative members to the Task Force.

All Task Force members shall be appointed for two-year terms and generally will serve no more than four years total on the Task Force, or as determined by the Secretary of the Army or designee. However, each member appointed to a term appointment must have his or her appointment renewed annually by the Secretary of Defense.

Task Force members shall, with the exception of travel and per diem for official travel, serve without compensation.

With DoD approval, the Task Force is authorized to establish subcommittees, as necessary and consistent with its mission. These subcommittees shall operate under the provisions of the Federal Advisory Committee Act of 1972, the Government in the Sunshine Act of 1976 (5 U.S.C. 552b), and other governing Federal statutes and regulations.

Such subcommittees or workgroups shall not work independently of the chartered Task Force, and shall report all their recommendations and advice to the Task Force for full deliberation and discussion. Subcommittees have no authority to make decisions on behalf of the chartered Task Force, nor can they report directly to the Department of Defense or any Federal officers or employees who are not Task Force members.

FOR FURTHER INFORMATION CONTACT: Jim Freeman, Deputy Committee Management Officer for the Department of Defense, 703-601-6128.

SUPPLEMENTARY INFORMATION: The Task Force shall meet at the call of the Designated Federal Officer, in consultation with the Chairperson. The estimated number of Task Force meetings is two per year.

The Designated Federal Officer, pursuant to DoD policy, shall be a full-time or permanent part-time DoD employee, and shall be appointed in accordance with established DoD policies and procedures. In addition, the Designated Federal Officer is required to be in attendance at all Task Force and subcommittee meetings, for the full duration of the meeting; however, in the absence of the Designated Federal Officer, an Alternate Designated Federal Officer shall attend the entire Task Force or subcommittee meeting.

Pursuant to 41 CFR 102-3.105(j) and 102-3.140, the public or interested organizations may submit written statements to the Missouri River (South Dakota) Task Force membership about the Task Force's mission and functions. Written statements may be submitted at any time or in response to the stated agenda of planned meeting of the Missouri River (South Dakota) Task Force.

All written statements shall be submitted to the Designated Federal Officer for the Missouri River (South Dakota) Task Force, and this individual will ensure that the written statements are provided to the membership for their consideration. Contact information for the Missouri River (South Dakota) Task Force Designated Federal Officer can be obtained from the GSA's FACA Database— https://www.fido.gov/facadatabase/public.asp.

The Designated Federal Officer, pursuant to 41 CFR 102-3.150, will announce planned meetings of the Missouri River (South Dakota) Task Force. The Designated Federal Officer, at that time, may provide additional guidance on the submission of written statements that are in response to the stated agenda for the planned meeting in question.

Dated: October 28, 2010.
Morgan F. Park,
Alternate OSD Federal Register, Liaison Officer, Department of Defense.

[FR Doc. 2010-27714 Filed 11-2-10; 8:45 am]

BILLING CODE 5001-06-P